DEPARTMENT OF COMMERCE

United States Patent and Trademark Office

[Docket No. 2003-C-002]

Request for comments and notice of round table meetings regarding Small Business Views on Additional Harmonization of Patent Laws

AGENCY: United States Patent and Trademark Office, Commerce.

ACTION: Request for input and notice of round table meetings.

SUMMARY: The United States Patent and Trademark Office (USPTO) seeks comments from small businesses, experts in global patent issues and other interested parties on achieving additional harmonization of patent laws. As a part of this effort, USPTO announces the scheduling of three round table meetings to receive views on patent law harmonization issues.

DATES: Comments must be received by December 19, 2002, to ensure consideration. Requests to participate in round table meetings must be received by November 22, 2002. If it becomes necessary to limit the number of participants, preference will be given to first-in-time requests. The round table meetings are tentatively scheduled for December 2, 2002, in the greater Los Angeles, California area; December 4, 2002, in the greater Chicago, Illinois area; and December 19, 2002, in the greater Washington, DC area.

ADDRESSES: Written comments and requests to participate in the round table meetings should be addressed to the United States Patent and Trademark Office, Office of International Relations, Room 902, 2121 Crystal Drive, Arlington, VA 22202, Attn: Jon Santamauro, Small Business/Harmonization; faxed to Jon Santamauro's attention at (703) 305-8885; or sent via electronic mail to sbpatentharmonization@uspto.gov. Specific times and locations for the round table meetings will be determined based on responses received from persons who express an interest in participation. Details as to those times and locations will be communicated to participants and posted on USPTO's Web site at www.uspto.gov.

FOR FURTHER INFORMATION CONTACT: Jon Santamauro by telephone at (703) 305-9300 or by electronic mail at sbpatentharmonization@uspto.gov.

SUPPLEMENTARY INFORMATION:

Background

In response to a request by the Ranking Republican Member of the Senate Committee on Small Business and Entrepreneurship and the Chairman of the House Committee on Small Business, the General Accounting Office (GAO) analyzed and prepared a report on (1) whether small businesses face impediments in obtaining foreign patent protection; (2) what impact any impediments have on their foreign patent decisions; and (3) whether any Federal actions could help small businesses overcome the impediments they may face in obtaining foreign patents. The Congressional requesters expressed concern that some small businesses, particularly high-technology firms, were not obtaining patent protection overseas and thus were losing potential sales in foreign markets.

The GAO completed its report, captioned Federal Action Needed to Help Small Businesses Address Foreign Patent Challenges (GAO-02-789), in July 2002 and made it available to the public in August 2002. The report is available on-line at www.gao.gov.

According to the report, foreign patent costs are the most significant impediment that small businesses face in trying to protect their inventions abroad. The conclusion is based on information received from small businesses and patent attorneys consulted by GAO in preparation of the report. The report also identifies impediments including companies' limited foreign patent knowledge; differences among foreign patent systems; and the existence of challenging business climates and weak patent enforcement in certain countries.

To help address these impediments, GAO recommends that USPTO obtain input from small businesses, experts in global patent issues, and other interested parties in order to assess the advantages and disadvantages of various options for achieving additional patent law harmonization. In addition, GAO recommends that the Administrator of the Small Business Administration, with assistance of USPTO, collect and make available information about key aspects of foreign patent laws, requirements, procedures, and costs that would be useful to small businesses that are considering whether to obtain foreign patent protection.

Consistent with the GAO recommendation, the Congressional requesters of the GAO report have requested that the USPTO convene a series of round table meetings with small business owners and policy experts by December 31, 2002, to hear views on the harmonization of global patent laws. They further request a synopsis of the proceedings and findings by March 31, 2003.

Round Table Meetings and Request for Comments

The USPTO requests that interested parties submit comments and/or recommendations on achieving additional harmonization of patent laws. It is suggested that this input be categorized as follows:

(1) Cost and fee related issues.

(2) Procedural and administrative issues.

(3) Substantive patent law issues.

(4) Enforcement issues.

(5) Miscellaneous issues.

Comments must be received by December 19, 2002, to ensure consideration, and should be addressed to the United States Patent and Trademark Office, Office of International Relations, Room 902, 2121 Crystal Drive, Arlington, VA 22202, Attn: Jon Santamauro, Small Business/Harmonization; faxed to Jon Santamauro's attention at (703) 305-8885; or sent via electronic mail to sbpatentharmonization@uspto.gov.

In addition, the USPTO will conduct round table meetings to hear views on the harmonization of international patent laws. The round table meetings are tentatively scheduled for December 2, 2002, in the greater Los Angeles, California area; December 4, 2002, in the greater Chicago, Illinois area; and December 19, 2002, in the greater Washington, DC area.

Requests to participate in round table meetings must be received by November 22, 2002, and should be addressed as indicated above. If it becomes necessary to limit the number of participants, preference will be given to first-in-time requests. Specific times and locations for the round table meetings will be determined based on responses received from persons who express an interest in participation. Details as to those times and locations will be communicated to participants and posted on USPTO's Web site at www.uspto.gov.

Dated: October 22, 2002.
James E. Rogan,
Under Secretary of Commerce for Intellectual Property and Director of the United States Patent and Trademark Office.

[FR Doc. 02-27323 Filed 10-25-02; 8:45 am]

BILLING CODE 3510-16-P